DEPARTMENT OF COMMERCE

International Trade Administration

[A-580-904]

Forged Steel Fittings From the Republic of Korea: Final Results of Antidumping Duty Administrative Review; 2021-2022

AGENCY: Enforcement and Compliance, International Trade Administration, Department of Commerce.

SUMMARY: The U.S. Department of Commerce (Commerce) determines that Samyoung Fitting Co., Ltd. (Samyoung), a producer/exporter subject to this administrative review, made sales of forged steel fittings at less than normal value. The period of review (POR) is December 1, 2021, through November 31, 2022.

DATES: Applicable April 4, 2024.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On September 25, 2023, Commerce published the Preliminary Results for this review in the Federal Register and invited interested parties to comment on those results.¹ From October 26 to November 1, 2023, interested parties submitted case and rebuttal briefs.² For a complete description of the events that occurred since Commerce published the Preliminary Results, see the Issues and Decision Memorandum.³ Commerce conducted this review in accordance with section 751(a) of the Tariff Act of 1930, as amended (the Act).

¹ See Forged Steel Fittings from the Republic of Korea: Preliminary Results of Antidumping Duty Administrative Review, 88 FR 65653 (September 25, 2023) (Preliminary Results), and accompanying Preliminary Decision Memorandum.

² See Samyoung's Letter, “Case Brief,” dated October 25, 2023; see also Bonney Forge Corporation's Letter, “Bonney Forge Corporation's Case Brief,” dated October 26, 2023; and Samyoung's Letter, “Rebuttal Brief,” dated November 1, 2021.

³ See Memorandum, “Forged Steel Fittings from the Republic of Korea: Issues and Decision Memorandum for the Final Results of the Antidumping Duty Administrative Review; 2021-2022,” dated concurrently with, and hereby adopted by, this notice (Issues and Decision Memorandum).

Scope of the Order ⁴

⁴ See Forged Steel Fittings from the Republic of Korea: Final Affirmative Determination of Sales at Less Than Fair Value, 85 FR 66302 (October 19, 2020) (Order).

The merchandise subject to the Order is forged steel fittings from the Republic of Korea. For a complete description of the scope of the Order, see the Issues and Decision Memorandum.

Analysis of Comments Received

All issues raised in the case and rebuttal briefs filed by parties in this review are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we made certain changes to the preliminary weighted-average dumping margin calculated for Samyoung. For a detailed discussion of these changes, see the Issues and Decision Memorandum.⁵

⁵ See Issues and Decision Memorandum at 4.

Final Results of Review

Exporter/producer | Weighted- average dumping margin (percent)
Samyoung Fitting Co., Ltd | 3.99

Disclosure

Commerce intends to disclose its calculations and analysis performed to interested parties in these final results within five days of the date of publication of this notice, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), Samyoung reported the entered value of its U.S. sales such that we calculated importer-specific ad valorem duty assessment rates based on the ratio of the total amount of dumping calculated for the examined sales to the total entered value of the sales for which entered value was reported. Where either the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR produced by Samyoung for which the company did not know that the merchandise it sold to the intermediary (e.g., a reseller, trading company, or exporter) was destined for the United States. In such instances, we will instruct CBP to liquidate unreviewed entries at the all-others rate of 17.08 percent ⁶ if there is no rate for the intermediate company(ies) involved in the transaction.

⁶ See Order.

Commerce intends to issue liquidation instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the company listed above will be equal to the weighted-average dumping margin established in the final results of this review, except if the rate is less than 0.50 percent and, therefore, de minimis within the meaning of 19 CFR 351.106(c)(1), in which case the cash deposit rate will be zero; (2) for previously investigated or reviewed companies not listed above, the cash deposit rate will continue to be the company-specific cash deposit rate published for the most recently completed segment; (3) if the exporter is not a firm covered in this review, or the original less-than-fair-value (LTFV) investigation, but the producer is, then the cash deposit rate will be the cash deposit rate established for the most recently completed segment for the producer of the merchandise; and (4) the cash deposit rate for all other producers or exporters will continue to be 17.08 percent, the all-others rate established in the LTFV investigation.⁷ These cash deposit requirements, when imposed, shall remain in effect until further notice.

⁷ Id.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these final results in accordance with sections 751(a)(1) and 777(i)(1) of the Act, and 19 CFR 351.221(b)(5).

Dated: March 21, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Revision of the Sales Window for the Final Results

Comment 2: Whether to Make Certain Adjustments to Home Market Fields

Comment 3: Whether to Make Changes to Margin Calculation Fields Regarding Value, Importer Name, and Differential Pricing Parameters

Comment 4: Correcting Certain Currency Conversions

VI. Recommendation

[FR Doc. 2024-07123 Filed 4-3-24; 8:45 am]

BILLING CODE 3510-DS-P